DEPARTMENT OF ENERGY

Federal Energy Regulatory Commission

[Project No. 2570-031]

Ohio Power Company; AEP Generation Resources, Inc.; Notice of Application for Transfer of License, and Soliciting Comments and Motions to Intervene

On July 19, 2013, Ohio Power Company (transferor) and AEP Generation Resources, Inc. (transferee) filed an application for transfer of license for the Racine Hydroelectric Project, FERC No. 2570, located at the U.S. Corps of Engineers Racine Locks and Dam on the Ohio River in Meigs County, Ohio.

Applicants seek Commission approval to transfer the license for the Racine Hydroelectric Project from the transferor to the transferee.

Applicants' Contact: For transferor: Mr. Ken McDonough, Assistant General Counsel—Real Estate, American Electric Power Service Corporation, 1 Riverside Plaza, Columbus, OH 43215, telephone (614) 716-1696 and Mr. Frank M. Simms, AER Plant Manager II, American Electric Power Service Corporation, 40 Franklin Road, Roanoke, VA 24011, telephone (540) 985-2875. For transferee: Mr. Jeffrey D. Cross, Deputy General Counsel, American Electric Power Service Corporation, 1 Riverside Plaza, Columbus, OH 43215, (614) 716-1580.

FERC Contact: Patricia W. Gillis (202) 502-8735, patricia.gillis@ferc.gov.

Deadline for filing comments and motions to intervene: 30 days from the issuance date of this notice, by the Commission. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-2570) in the docket number field to access the document. For assistance, call toll-free 1-866-208-3372.

Kimberly D. Bose,
Secretary.

[FR Doc. 2013-18747 Filed 8-2-13; 8:45 am]

BILLING CODE 6717-01-P